Title 3—

The President

Proclamation 9057 of November 14, 2013

America Recycles Day, 2013

By the President of the United States of America

A Proclamation

During the First and Second World Wars, Americans showed their patriotism by participating in scrap drives and salvage collections. A committed citizenry gave up their personal typewriters, joined in volunteer efforts to harvest oil-producing peanuts, and donated old tires in a nationwide push to conserve and repurpose resources vital to our common welfare. Today, we face new threats—to our environment, our health, and our climate—that require all of us to do our part. On America Recycles Day, we carry forward a great national tradition and enlist a new generation of environmental stewards.

A typical American produces more than four pounds of waste each day, and some of this waste, including old computers and cell phones, could damage our health and harm our environment if not recycled properly. Recycling not only reduces pollution, but also saves energy, preserves valuable raw materials, and reduces emissions of greenhouse gases that contribute to climate change. In addition, it spurs economic growth, generating billions of dollars each year and supporting local manufacturers who depend on recycled materials to make their products.

America Recycles Day offers an opportunity for each of us to reflect on the ways our habits shape the world around us. In our homes, offices, and schools, let us strive to make recycling a part of our daily lives. We should reuse or donate when possible, and recycle or compost as much as we are able. Students can get involved by championing waste-free lunches, recycling programs, and collection drives to repurpose resources like used shoes, water bottles, and digital cameras.

Our environmental legacy will not reflect any single policy or initiative; it will be the sum of millions of small actions, the decisions we make each day. Today, let us join with family, friends, and neighbors to make that legacy a strong one.

NOW, THEREFORE, I, BARACK OBAMA, President of the United States of America, by virtue of the authority vested in me by the Constitution and the laws of the United States, do hereby proclaim November 15, 2013, as America Recycles Day. I call upon the people of the United States to observe this day with appropriate programs and activities, and I encourage all Americans to continue their reducing, reusing, and recycling efforts throughout the year.

IN WITNESS WHEREOF, I have hereunto set my hand this fourteenth day of November, in the year of our Lord two thousand thirteen, and of the Independence of the United States of America the two hundred and thirty-eighth.

[FR Doc. 2013-27910

Filed 11-18-13; 11:15 am]

Billing code 3295-F4